ENVIRONMENTAL PROTECTION AGENCY

[FRL-9992-11-OA]

Notice of Meeting of the EPA Children's Health Protection Advisory Committee (CHPAC)

AGENCY: Environmental Protection Agency (EPA).

ACTION: Notice of meeting.

SUMMARY: Pursuant to the provisions of the Federal Advisory Committee Act, notice is hereby given that the next meeting of the Children's Health Protection Advisory Committee (CHPAC) will be held May 9 and 10, 2019 at 1615 @Dupont, located at 1615 New Hampshire Ave. NW, Third Floor, Washington, DC 20009. The CHPAC advises the Environmental Protection Agency (EPA) on science, regulations and other issues relating to children's environmental health.

DATES: May 9, 2019 from 9 a.m. to 5 p.m. and May 10, 2019 from 9 a.m. to 1 p.m.

ADDRESSES: 1615 New Hampshire Ave. NW, Third Floor, Washington, DC 20009.

FOR FURTHER INFORMATION CONTACT: Nica Louie, Office of Children's Health Protection, U.S. EPA, MC 1107T, 1200 Pennsylvania Avenue NW, Washington, DC 20460, (202) 564-7633 or louie.nica@epa.gov.

SUPPLEMENTARY INFORMATION: The meetings of the CHPAC are open to the public. An agenda will be posted to https://www.epa.gov/children/childrens-health-protection-advisory-committee-chpac.

Access and Accommodations: For information on access or services for individuals with disabilities, please contact Nica Louie at 202-564-7633 or louie.nica@epa.gov.

Dated: March 25, 2019.
Nica Louie,
Environmental Health Scientist.

[FR Doc. 2019-08300 Filed 4-23-19; 8:45 am]

BILLING CODE 6560-50-P